DEPARTMENT OF THE INTERIOR

Bureau of Land Management

[LLNVW00000.L5110000.GN0000.LVEMF1805980.18X.MO#4500139740]

Notice of Availability of the Draft Environmental Impact Statement for the Proposed POA11 Project—Modification to the Plan of Operations for the Coeur Rochester and Packard Mines, Pershing County, NV

AGENCY: Bureau of Land Management, Interior.

ACTION: Notice of availability.

SUMMARY: In compliance with the National Environmental Policy Act of 1969, as amended, and the Federal Land Policy and Management Act of 1976, as amended, the Bureau of Land Management (BLM) Humboldt River Field Office, Winnemucca, Nevada has prepared a Draft Environmental Impact Statement (EIS) and by this notice announces the beginning of the public comment period to solicit public comments on the Draft EIS. The BLM is the lead agency in development of the Draft EIS and will be evaluating Coeur Rochester, Inc.'s (CRI) request for the proposed expansion of its silver mining operations at the existing Coeur Rochester and Packard Mines.

DATES: This notice initiates the public comment period for the Draft EIS. Comments may be submitted in writing until December 2, 2019. The date(s) and location(s) of any comment meetings will be announced at least 15 days in advance through local media, newspapers and the BLM website at: https://go.usa.gov/xPdjC. In order to be included in the Draft EIS, all comments must be received prior to the close of the 45-day public comment period. We will provide additional opportunities for public participation upon publication of the Final EIS.

ADDRESSES: You may submit comments related to the Coeur Rochester and Packard Mines Plan of Operations Amendment 11 (POA11) Project by any of the following methods:

• Website: https://go.usa.gov/xPdjC.

• Email: wfoweb@blm.gov; include “Coeur POA11 EIS Comments” in the subject line.

• Fax: (775) 623-1740.

• Mail: 5100 E Winnemucca Blvd., Winnemucca, NV 89445.

FOR FURTHER INFORMATION CONTACT: For questions about the proposed mine expansion contact Kathleen Rehberg, telephone: (775) 623-1500, email: krehberg@blm.gov, address: 5100 East Winnemucca Boulevard., Winnemucca, Nevada 89445. Contact Ms. Rehberg to have your name added to our mailing list. Persons who use a telecommunications device for the deaf (TDD) may call the Federal Relay Service (FRS) at 1-800-877-8339 to contact Ms. Rehberg during normal business hours. The FRS is available 24 hours a day, 7 days a week, to leave a message or question. You will receive a reply during normal business hours.

SUPPLEMENTARY INFORMATION: CRI has requested to expand its operations at the Rochester and Packard mines by modifying its approved Plan of Operations. The mine is located approximately 26 miles northeast of Lovelock, Nevada. The mine is currently authorized to disturb up to 2,203.1 acres (approximately 164.6 acres of private land and 2,038.5 acres of public land), which was analyzed in a series of EISs and Environmental Assessments beginning in 1986 through the latest EIS in 2015. The Proposed Action is to expand mining in both of CRI's current pits (the Rochester and Packard pits) and move, relocate, or expand heap leach pads, waste rock dumps, haul roads, access road, water pipeline, and processing facilities. The proposal would increase disturbance by 2,815.4 acres (435.2 acres on private land and 2,380.2 acres on public land).

Mining of the Rochester Pit would extend below the groundwater resulting in a permanent pit lake after closure. Additional, potentially acid generating material would be excavated and would be processed as ore or stored according to CRI's Waste Rock Storage Plan. The plan would also necessitate an upgrade in power distribution lines and a substation. With the proposed expansion, mine life would be extended to 2033, and would be followed by mine closure and reclamation.

The purpose of this comment period is for the public to review and provide comments on the Draft EIS. The Draft EIS, after scoping, has identified and analyzed impacts to the following resource areas: Air and atmospheric resources; cultural resources; noxious weeds, invasive species and non-native species; migratory birds; Native American religious concerns; wastes and materials (hazardous and solid); water quality (surface and ground); geology, minerals, and energy; lands and realty; paleontology; rangeland management; recreation; social values and economics; soils; special status species (plants and wildlife); transportation and access; vegetation; visual resources; and wildlife.

The Draft EIS describes and analyzes the Proposed Action's direct, indirect, and cumulative impacts on all affected resources. In addition to the Proposed Action, the following alternatives are also analyzed in the document: (1) Alternative 1, which is an alternate method to manage and store potentially acid generating material; (2) Alternative 2, which was developed to address and manage pit lake development and water quality; and (3) The No Action Alternative.

The BLM has consulted and continues to consult with Indian tribes on a government-to-government basis in accordance with Executive Order 13175 and other policies. Tribal concerns, including impacts to Indian trust assets and potential impacts to cultural resources have been analyzed in the Draft EIS. Federal, State, and local agencies, along with tribes and other stakeholders that may be interested in or affected by the Proposed Action that the BLM is evaluating, are invited to participate in the comment process.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

David Kampwerth,
Field Manager, Humboldt River Field Office.

[FR Doc. 2019-22707 Filed 10-17-19; 8:45 am]

BILLING CODE 4310-HC-P